DEPARTMENT OF HEALTH AND HUMAN SERVICES

Centers for Disease Control and Prevention

[30Day-29-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: National Public Health Performance Standards Program State Public Health System Assessment—New—Public Health Practice Program Office (PHPPO), Centers for Disease Control and Prevention (CDC).

Since 1998, the CDC National Public Health Performance Standards Program has convened workgroups with the National Association of County and City Health Officials (NACCHO), the Association of State and Territorial Health Officials (ASTHO), the National Association of Local Boards of Health NALBOH), the American Public Health Association (APHA), and the Public Health Foundation (PHF) to develop performance standards for public health systems based on the essential services of public health. In the fall of 2000, CDC conducted field tests with the state public health survey instruments in Hawaii, Minnesota, and Mississippi.

CDC is now proposing to implement a formal, voluntary data collection, based on the lessons learned during field testing, to assess the capacity of state public health systems to deliver the Essential Services of Public Health. Electronic data submission will be the method of choice when state and territorial health departments complete the public health assessment.

An estimated 33 percent of the 59 state and territorial health departments are expected to participate in the National Performance Standards Program during the first year. In year two, an additional 25 percent and in year three, 22 percent. The total burden hours are estimated to be 720.

Data collection period | Number of respondents | Number of responses per respondent | Average Burden per Response (in hrs.)
Year 1 | 20 | 1 | 15
Year 2 | 15 | 1 | 15
Year 3 | 13 | 1 | 15

Dated: May 21, 2002.
Nancy Cheal,
Acting Associate Director for Policy, Planning, and Evaluation, Centers for Disease Control and Prevention.

[FR Doc. 02-13417 Filed 5-29-02; 8:45 am]

BILLING CODE 4163-18-P